Title 3—

The President

Proclamation 9174 of September 26, 2014

National Hunting and Fishing Day, 2014

By the President of the United States of America

A Proclamation

Across America, hunting and fishing connect people of all ages to our Nation's splendor, instilling a conservation ethic that spans generations. As mist clears off glistening lakes and fog lifts from forests and grasslands, sportsmen and women carry forward a proud tradition rooted in self-reliance and environmental stewardship. On National Hunting and Fishing Day, we recognize all those who responsibly participate in these national pastimes and their contributions to the preservation of our land, water, and wildlife.

Our Nation's natural bounty bolsters our economy, supports tourism and recreation, and rejuvenates the human spirit. And as our parents and grandparents did, we have a profound obligation to protect these outdoor resources. Effective conservation ensures generations to come will be able to enjoy the beauty of our expansive and unspoiled wilderness. For decades, hunters and anglers have championed sustainable practices and supported environmental stewardship through hunting licenses and other small fees collected for the use of our public lands. As they teach their children and grandchildren to track game through the woods or wade into a cascading stream, they pass on our country's legacy of embracing our wild and scenic places.

As part of my Administration's America's Great Outdoors Initiative, we are partnering with States, tribal governments, and communities to advance local conservation priorities and increase access to land and water for the use and enjoyment of the American people. Since I took office, I have designated more than 2 million acres of Federal wilderness and thousands of miles of trails, protected over 1,000 miles of rivers, and established or expanded 12 National Monuments. These acts not only preserve our most treasured landscapes for posterity, but they also make more land available for outdoor recreational activities, including fishing and hunting. And we can do more—I continue to call on the Congress to fully and permanently fund the Land and Water Conservation Fund, a portion of which would further expand our public spaces.

Today, as we reflect on the formative experiences of hunting and fishing, let us renew our commitment to protecting these outdoor traditions and the vast American wild that sustains them.

NOW, THEREFORE, I, BARACK OBAMA, President of the United States of America, by virtue of the authority vested in me by the Constitution and the laws of the United States, do hereby proclaim September 27, 2014, as National Hunting and Fishing Day. I call upon all Americans to observe this day with appropriate programs and activities.

IN WITNESS WHEREOF, I have hereunto set my hand this twenty-sixth day of September, in the year of our Lord two thousand fourteen, and of the Independence of the United States of America the two hundred and thirty-ninth.

[FR Doc. 2014-23579

Filed 9-30-14; 11:15 am]

Billing code 3295-F5